COMMISSION ON CIVIL RIGHTS

Notice of Public Meeting of the Colorado Advisory Committee to the U.S. Commission on Civil Rights

AGENCY: U.S. Commission on Civil Rights.

ACTION: Notice of public meeting.

SUMMARY: Notice is hereby given, pursuant to the provisions of the rules and regulations of the U.S. Commission on Civil Rights (Commission) and the Federal Advisory Committee Act, that the Colorado Advisory Committee (Committee) to the U.S. Commission on Civil Rights will hold a public briefing in Boulder. The purpose of the briefing is to hear testimony from experts, government officials, advocates, academics and others on public school attendance zones in Colorado. There will be an opportunity for the public to comment at the conclusion of the scheduled testimony.

DATES: Monday, May 15, 2023; from 10 a.m. to 5 p.m. Mountain Time.

ADDRESSES: The briefing will be held at the Colorado University of Colorado Law School, Wolf Law Building, Wittemeyer Court Room, 2450 Kittredge Loop Drive, Boulder, CO 80309.

FOR FURTHER INFORMATION CONTACT: Barbara Delaviez, Designated Federal Official at ero@usccr.gov.

SUPPLEMENTARY INFORMATION: The briefing is free of charge and is open to the public. Interested members of the public may sign up any time during the briefing and may make comments on the topic towards the end of the briefing. Per the Federal Advisory Committee Act, public minutes of the briefing will include a list of persons who are present at the briefing. Persons with hearing impairments, please request accommodations at least 10 business days prior to the briefing at: ebohor@usccr.gov.

Members of the public are entitled to submit written comments; the comments must be received in the regional office within 30 days following the briefing. Written comments may be emailed to Barbara Delaviez at ero@usccr.gov. Persons who desire additional information may contact the Regional Programs Coordination Unit at 1-312-353-8311.

Records generated from this briefing may be inspected and reproduced at the Regional Programs Coordination Unit Office, as they become available, both before and after the briefing. Records of all committee meetings will be available via the www.facadatabase.gov under the Commission on Civil Rights, Colorado Advisory Committee link. Persons interested in the work of this Committee are directed to the Commission's website, http://www.usccr.gov, or may contact the Regional Programs Coordination Unit at 1-312-353-8311.

Agenda

I. Welcome & Chair Remarks

II. Briefing on Public School Attendance Zones in Colorado

III. Public Comment

IV. Next Steps

V. Adjournment

Dated: April 25, 2023.
David Mussatt,
Supervisory Chief, Regional Programs Unit.

[FR Doc. 2023-09073 Filed 4-28-23; 8:45 am]

BILLING CODE 6335-01-P